DEPARTMENT OF THE INTERIOR

National Park Service

National Register of Historic Places; Notification of Pending Nominations and Related Actions

Nominations for the following properties being considered for listing or related actions in the National Register were received by the National Park Service before August 21, 2010. Pursuant to § 60.13 of 36 CFR Part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 1, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

CALIFORNIA

Alameda County

Olsen, Donald and Helen, House, 771 San Diego Rd, Berkeley, 10000812

MAINE

Androscoggin County

Webster Grammar School, 95 Hampshire St, Auburn, 10000806

Kennebec County

Waterville High School, 21 Gilman St, Waterville, 10000807

NEW JERSEY

Hunterdon County

Van Syckle, John, House, 195 Rummel Rd, Holland Township, 10000814

Middlesex County

Goldman House, 143 School St, Piscataway Township, 10000813

NEW YORK

Cattaraugus County

Olean School #10, 411 W Henley St, Olean, 10000810

Columbia County

North Hillsdale Methodist Church, 1012 County Rte 2, North Hillsdale, 10000811

Niagara County

Park Place Historic District, Park Place, portions of Prince Ave, 4th St, and Main St, Niagara Falls, 10000809

Rockland County

Houser—Conklin House, 246 Rte 306, Monsey, 10000808

[FR Doc. 2010-23173 Filed 9-15-10; 8:45 am]

BILLING CODE 4312-51-P